FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[November 1, 2011 thru November 30, 2011]
11/01/2011
20120012 | G | Johnson & Johnson; Great Hill Equity Partners IV, LP; Johnson & Johnson.
11/02/2011
20120039 | G | Superior Energy Services, Inc.; Complete Production Services, Inc.; Superior Energy Services, Inc.
20120040 | G | Carl C. Icahn; Navistar International Corporation; Carl C. Icahn.
20120044 | G | AstraZeneca plc; Pfizer Inc.; AstraZeneca plc.
20120075 | G | Waste Connections, Inc.; Alaska Pacific Environmental Services Anchorage, LLC; Waste Connections, Inc.
20120076 | G | Iochpe-Maxion, S.A.; Grupo Galaz, S.A. de C.V.; Iochpe-Maxion, S.A.
20120078 | G | GCP Fund III Corporation; AW-PAG, L.L.C.; GCP Fund III Corporation.
11/04/2011
20110804 | G | Computershare Limited; The Bank of New York Mellon Corporation; Computershare Limited.
11/07/2011
20120082 | G | Gregory A. Goodwin; Matthew J. Brewer; Gregory A. Goodwin.
20120095 | G | C.R. Bard, Inc.; Medivance, Inc.; C.R. Bard, Inc.
20120097 | G | Harvest DTI Acquisitions, Inc.; Quad-C Partners VII, L.P.; Harvest DTI Acquisitions, Inc.
20120102 | G | George J. Pedersen; Ulysese Jefferson; George J. Pedersen.
20120107 | G | Statoil ASA; Brigham Exploration Company; Statoil ASA.
20120108 | G | Blackstone Capital Partners (Cayman II) VI L.P.; Socrates Privatstiftung; Blackstone Capital Partners (Cayman II) VI L.P.
20120115 | G | Odyssey Investment Partners Fund IV, L.P.; TNT Group, Inc.; Odyssey Investment Partners Fund IV, L.P.
20120119 | G | Oracle Corporation; Endeca Technologies, Inc.; Oracle Corporation.
11/08/2011
20111422 | G | Par Pharmaceutical Companies, Inc.; Chih-Ming Chen; Par Pharmaceutical Companies, Inc.
20120099 | G | Sponsor Auto Finance Holdings Series; Banco Santander, S.A.; Sponsor Auto Finance Holdings Series.
20120110 | G | Nationwide Mutual Insurance Company; Harleysville Mutual Insurance Company; Nationwide Mutual Insurance Company.
20120114 | G | Ares Corporate Opportunities Fund III, L.P.; 99? Only Stores; Ares Corporate Opportunities Fund III, L.P.
20120117 | G | Big River Resources, LLC; Western Wisconsin Renewable Energy Cooperative; Big River Resources, LLC.
20120118 | G | Parsons Corporation; Cobham Plc; Parsons Corporation.
20120120 | G | Cameron International Corporation; Edward L. Ganzinotti II; Cameron International Corporation.
11/10/2011
20120036 | G | Itochu Corporation; Twomey Company; Itochu Corporation.
20120037 | G | National Federation of Agricultural Cooperative Associations; Twomey Company; National Federation of Agricultural Cooperative Associations.
11/14/2011
20120116 | G | The J.M. Smucker Company; Sara Lee Corporation; The J.M. Smucker Company.
20120125 | G | LSI Corporation; SandForce, Inc.; LSI Corporation.
20120134 | G | Entergy Corporation; NextEra Energy, Inc.; Entergy Corporation.
20120142 | G | Mattel, Inc.; HiT Entertainment Scottish LP; Mattel, Inc.
20120157 | G | Longitude Venture Partners, LP; Azur Pharma Public Limited Company; Longitude Venture Partners, LP.
20120161 | G | Halkos Holdings, LLC; Hussey Copper Ltd.; Halkos Holdings, LLC.
11/15/2011
20120098 | G | Brockway Moran & Partners Fund III, L.P.; 2003 Riverside Capital Appreciation Fund, L.P.; Brockway Moran & Partners Fund III, L.P.
20120129 | G | Roche Holding Ltd.; Anadys Pharmaceuticals, Inc.; Roche Holding Ltd.
20120136 | G | CVR Energy, Inc.; Samuel Gary; CVR Energy, Inc.
20120138 | G | McGladrey & Pullen, LLP; H&R Block, Inc.; McGladrey & Pullen, LLP.
20120141 | G | Blackstone Capital Partners (Cayman) V-NQ L.P.; Fred Weber, Inc. Employee Stock Owner; Blackstone Capital Partners (Cayman) V-NQ L.P.
20120146 | G | Lindsay Goldberg & Bessemer II L.P.; Renal CarePartners, Inc.; Lindsay Goldberg & Bessemer II L.P.
11/16/2011
20120083 | G | Apax Europe VII-B, L.P.; Ins Web Corporation; Apax Europe VII-B, L.P.
20120121 | G | Pershing Square, L.P.; Canadian Pacific Railway Limited; Pershing Square, L.P.
20120122 | G | Pershing Square International, Ltd.; Canadian Pacific Railway Limited; Pershing Square International, Ltd.
20120135 | G | B&G Foods, Inc.; Unilever N.V.; B&G Foods, Inc.
20120137 | G | TPF II, L.P.; Batesville Generation Holdings, LLC; TPF II, L.P.
20120140 | G | Teachers Insurance and Annuity Association of America; ACS Actividades de Construccion y Servicios, S.A.; Teachers Insurance and Annuity Association of America.
11/17/2011
20120148 | G | American Securities Partners VI, L.P. ; GTEL Holding LLC ; American Securities Partners VI, L.P.
20120150 | G | Sector Performance Fund, LP; Stonehenge Opportunity Fund II, LP; Sector Performance Fund, LP.
11/18/2011
20120069 | G | Hellman & Friedman Capital Partners; TCV IV, L.P.; Hellman & Friedman Capital Partners.
20120159 | G | Cigna Corporation; HealthSpring, Inc.; Cigna Corporation.
11/21/2011
20120090 | G | American Securities Partners V, L.P.; UFX Holding I Corporation; American Securities Partners V, L.P.
20120100 | G | Thomas G. Dundon; Banco Santander, S.A.; Thomas G. Dundon.
20120149 | G | Liberty Interactive Corporation; HSN, Inc.; Liberty Interactive Corporation.
20120156 | G | Patricia's Trust under the Kocourek 1994 Family Trust; CM Packaging Group, Inc.; Patricia's Trust under the Kocourek 1994 Family Trust.
20120162 | G | Plains All American Pipeline, L.P.; Energy Spectrum Partners V, LP; Plains All American Pipeline, L.P.
20120163 | G | Sinclair Broadcast Group, Inc.; Freedom Communications Holdings, Inc.; Sinclair Broadcast Group, Inc.
20120176 | G | Robert David Sheehan, Jr.; OCM/GFI Power Opportunities Fund II, LP; Robert David Sheehan, Jr.
20120185 | G | A.M. Castle & Co.; Paul C. Sorensen; A.M. Castle & Co.
20120186 | G | A.M. Castle & Co.; Jerry W. Willeford; A.M. Castle & Co.
11/22/2011
20120132 | G | Biogen Idec Inc.; Portola Pharmaceuticals, Inc.; Biogen Idec Inc.
20120169 | G | Best Buy Co., Inc.; mindSHIFT Technologies, Inc.; Best Buy Co., Inc.
20120171 | G | Genstar Capital Partners V, L.P.; Reed Elsevier PLC; Genstar Capital Partners V, L.P.
20120172 | G | Genstar Capital Partners V, L.P.; Reed Elsevier NV; Genstar Capital Partners V, L.P.
20120173 | G | Sodexo S.A.; RBI Acquisition Company; Sodexo S.A.
20120175 | G | Warburg Pincus Private Equity X, L.P.; Endurance International Group Holdings, LLC; Warburg Pincus Private Equity X, L.P.
20120182 | G | Olympus Growth Fund V, L.P.; Bank of America Corporation; Olympus Growth Fund V, L.P.
20120183 | G | The Resolute Fund II, L.P.; R. Bruce Dye; The Resolute Fund H, L.P.
20120187 | G | Dr. Phillip Frost; Vector Group Ltd.; Dr. Phillip Frost.
20120195 | G | Medicis Pharmaceutical Company; Graceway Pharma Holding Corp.; Medicis Pharmaceutical Company.
11/23/2011
20120154 | G | ValueAct Capital Master Fund, L.P.; Motorola Solutions, Inc.; ValueAct Capital Master Fund, L.P.
20120155 | G | ValueAct Capital Master Fund, L.P.; CBRE Group, Inc.; ValueAct Capital Master Fund, L.P.
20120165 | G | Eugenie Patri Sabastien EPS, SA; John D. Cresap; Eugenie Patri Sabastien EPS, SA
20120166 | G | Jorge Paulo Lemann; John D. Cresap; Jorge Paulo Lemann
20120188 | G | ConAgra Foods, Inc.; Brookstone Holdings, Inc.; ConAgra Foods, Inc.
20120192 | G | KRG Capital Fund IV, L.P.; Enhanced Equity Fund, L.P.; KRG Capital Fund IV, L.P.
20120198 | G | TransForce Inc.; Complete Production Services, Inc.; TransForce Inc.
11/29/2011
20120196 | G | L'Oreal S.A.; Pacific Bioscience Laboratories, Inc.; L'Oreal S.A.
20120197 | G | PPL Corporation; LS Power Equity Partners II, L.P.; PPL Corporation.
20120199 | G | Michael and Jeannie O'Neill; 101164459 Saskatchewan Ltd.; Michael and Jeannie O'Neill.
20120200 | G | Carlisle Companies Incorporated; Brockway Moran & Partners Fund II, L.P.; Carlisle Companies Incorporated.
20120202 | G | Gregory W. Penske; Roger S. Penske; Gregory W. Penske.
20120204 | G | PTT Global Chemical Public Company; Cargill, Incorporated; PIT Global Chemical Public Company.
20120205 | G | ABRY Partners VII, L.P.; American Capital, Ltd.; ABRY Partners VII, L.P.
20120206 | G | Humana Inc.; HHEP-SafeMed, L.P.; Humana Inc.
20120208 | G | CRH plc; M. Allen Hatfield; CRH plc.
20120211 | G | QUIKRETE Holdings, Inc.; Robert J. Schlegel; QUIKRETE Holdings, Inc.
20120217 | G | Douglas F. Manchester; Platinum Equity Capital Jewel Partners; Douglas F. Manchester.
20120218 | G | Baker Brothers Life Sciences, L.P.; Incyte Corporation; Baker Brothers Life Sciences, L.P.
20120221 | G | Tilman J. Fertitta; McCormick & Schmick's Seafood Restaurants, Inc.; Tilman J. Fertitta.

FOR FURTHER INFORMATION CONTACT: Renee Chapman, Contact Representative, or Theresa Kingsberry, Legal Assistant, Federal Trade Commission, Premerger Notification Office, Bureau Of Competition, Room H-303, Washington, DC 20580, (202) 326-3100.

By Direction of the Commission.
Donald S. Clark,
Secretary.

[FR Doc. 2011-31686 Filed 12-12-11; 8:45 am]

BILLING CODE 6750-01-M